OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on December 11 & 12, 2003 at the Office of National Drug Control Policy in the 5th Floor Conference Room, 750 17th Street NW., Washington, DC. The meeting will commence at 8:30 a.m. on Thursday, December 11, 2003 and adjourn for the evening at 4:30 p.m. The meeting will reconvene at 8:30 a.m. on Friday, December 12, 2003 and adjourn at 1:30 p.m. The agenda will include: Remarks by ONDCP Director John P. Walters; updates on the Drug Free Communities Program; the National Youth Anti-Drug Media Campaign; and the National Anti-Drug Coalition Institute. There will be an opportunity for public comment from 11:30 a.m. until 12 noon on Thursday, December 11, 2003. Members of the public who wish to attend the meeting and/or make public comment should contact Stella Price at (202) 395-3617 to arrange building access.

FOR FURTHER INFORMATION CONTACT: Daniel Petersen, (202) 395-6622.

Dated: November 3, 2003.
Daniel Petersen,
Assistant General Counsel.

[FR Doc. 03-27912 Filed 11-5-03; 8:45 am]

BILLING CODE 3180-02-P